DEPARTMENT OF THE INTERIOR

Bureau of Land Management

[LLCAC06000.L13100000.DS0000.LXSIAREV0000.19XL1109AF; MO#4500131458]

Notice of Availability of the Bakersfield Field Office Hydraulic Fracturing Final Supplemental Environmental Impact Statement, California

AGENCY: Bureau of Land Management, Interior.

ACTION: Notice of availability.

SUMMARY: In accordance with the National Environmental Policy Act of 1969, as amended (NEPA), the Bureau of Land Management (BLM) has prepared a Final Supplemental Environmental Impact Statement (EIS) analyzing the potential impacts of hydraulic fracturing on new oil and gas leases within the Bakersfield Field Office planning area, and by this notice the BLM is announcing its availability.

DATES: The BLM will not issue a final decision on the proposal for a minimum of 30 days after the date that the Environmental Protection Agency publishes its Notice of Availability in the Federal Register.

ADDRESSES: Copies of the Bakersfield Field Office Hydraulic Fracturing Final Supplemental EIS are available for public inspection during regular business hours at 3801 Pegasus Drive, Bakersfield, CA 93308. Interested persons may also review the Final Supplemental EIS online at https://go.usa.gov/xE3Nw.

FOR FURTHER INFORMATION CONTACT: Carly Summers, Supervisory Natural Resources Specialist; telephone: 661-391-6000; email: csummers@blm.gov; address Bureau of Land Management, 3801 Pegasus Drive, Bakersfield, CA 93308. Persons who use a telecommunications device for the deaf (TDD) may call the Federal Relay Service (FRS) at 1-800-877-8339 to contact Carly Summers during normal business hours. The FRS is available 24 hours a day, 7 days a week, to leave a message or question. You will receive a reply during normal business hours.

SUPPLEMENTARY INFORMATION: The Bakersfield Field Office planning area is located in eastern Fresno, western Kern, Kings, Madera, San Luis Obispo, Santa Barbara, Tulare, and Ventura counties in California and encompasses approximately 1.2 million acres of Federal minerals and roughly 400,000 surface acres of BLM-managed public land.

The supplemental environmental analysis is being conducted in response to a May 2017, U.S. District Court Order. The U.S. District Court upheld the range of alternatives analyzed in the 2012 Proposed Resource Management Plan (RMP)/Final EIS. The five management alternatives analyzed in the Proposed RMP/Final EIS were:

• The No Action alternative (Alternative A)—continue current management under the existing 1997 Caliente RMP and 1984 Hollister RMP, as amended;

• The Proposed Plan (Alternative B)—balance resource conservation and ecosystem health with the production of commodities and public use of the land;

• Alternative C—emphasize conserving cultural and natural resources, maintaining functioning natural systems, and restoring degraded natural systems;

• Alternative D—same as Alternative C, except that Alternative D would eliminate livestock grazing from BLM-managed lands in the planning area; and

• Alternative E—emphasize the production of natural resources, commodities and public use opportunities.

The 2012 Proposed RMP/Final EIS identified public lands available to fluid-mineral leasing and no changes to those designations are proposed through the Final Supplemental EIS.

Preliminary resource issues were presented for public scoping review and comment in the August 8, 2018, Federal Register Notice of Intent (83 FR 39116). Issues identified by BLM personnel; Federal, State, and local agencies; and other stakeholders and analyzed in the Final Supplemental EIS include: Air and atmospheric values; water quality and quantity; seismicity; special status species; and mineral resources (oil and gas.)

The Draft Supplemental EIS was available for a 45-day public comment period initiated on April 26, 2019, Federal Register Notice of Availability (84 FR 17885). The BLM held public meetings on May 21, 22, and 23, 2019, in Bakersfield, San Luis Obispo, and Santa Barbara, respectively. Approximately 600 individuals attended the three meetings and approximately 16,000 written comments were received through ePlanning and standard mail.

Responses to substantive comments are presented in Appendix B: Public Comment Summary Report of the Final Supplemental EIS.

The results of this final supplemental analysis regarding the impacts of hydraulic fracturing, additive to those identified in the 2012 Final EIS, did not show a notable increase in total impacts. No conflicts were found between the estimated impacts of hydraulic fracturing and the resource or program management goals and objectives stated in the 2014 RMP. The range of alternatives has not changed between the approved 2014 RMP and its 2012 Final EIS and the Final Supplemental EIS. Therefore, no amendment to the 2014 RMP is necessary. In addition, no protest period is required because no changes are proposed to the 2014 RMP planning decisions. The BLM has fully analyzed the effects of hydraulic fracturing in accordance with the order of the court, and although the 2012 EIS has been supplemented, no changes are proposed to the 2014 RMP planning decisions. Because there are no changes to the RMP, no protest period is required and none is given.

The BLM has utilized and coordinated the NEPA process to help fulfill the public involvement process under the National Historic Preservation Act (54 U.S.C. 306108), as provided in 36 CFR 800.2(d)(3). The BLM will continue to consult with Indian tribes on a government-to-government basis, in accordance with Executive Order 13175 and other policies. Tribal concerns, including impacts on Indian trust assets and potential impacts to cultural resources, will continue to be given due consideration.

BLM review were considered and incorporated, as appropriate, into the Final Supplemental EIS. Public comments resulted in the addition of clarifying text and incorporation of new information, but did not require or suggest further supplementation or change proposed decisions.

Authority: Authority: 40 CFR 1506.6, 40 CFR 1506.10.

Danielle Chi,
Deputy State Director, Natural Resources.

[FR Doc. 2019-23827 Filed 10-31-19; 8:45 am]

BILLING CODE 4310-40-P